DEPARTMENT OF HEALTH AND HUMAN SERVICES

National Institutes of Health

Center for Scientific Review; Amended Notice of Meeting

Notice is hereby given of a change in the meeting of the Bioengineering of Neuroscience, Vision and Low Vision Technologies Study Section, October 03, 2013, 08:00 a.m. to October 04, 2013, 11:00 a.m., Washington Hilton, 1919 Connecticut Avenue, Washington, DC 20009, which was published in the Federal Register on September 09, 2013, 78 FR 174 Pgs. 55086-55087.

The meeting will be held at the Ritz-Carlton Hotel, 1150 22nd Street NW., Washington, DC 20037. The meeting will start on December 12, 2013 at 8:00 a.m. and end December 12 2013 at 4:30 p.m. The meeting is closed to the public.

Dated: October 29, 2013.
Melanie J. Gray,
Program Analyst, Office of Federal Advisory Committee Policy.

[FR Doc. 2013-26162 Filed 11-1-13; 8:45 am]

BILLING CODE 4140-01-P